DEPARTMENT OF COMMERCE

International Trade Administration

Manufacturing Council

AGENCY: International Trade Administration, U.S. Department of Commerce.

ACTION: Notice of Reopening of the Application Period for Membership on the Manufacturing Council.

SUMMARY: On March 16, 2010, the Department of Commerce's International Trade Administration published a notice in the Federal Register (75 FR 12507) soliciting applications for membership on the Manufacturing Council (Council). The March 16, 2010 notice provided that all applications must be received by the Office of Advisory Committees of the Department of Commerce by close of business on April 15, 2010. This notice reopens the application period in order to provide the public with an additional opportunity to submit applications. The eligibility and evaluation criteria for selecting members contained in the March 16, 2010 notice shall continue to apply. The purpose of the Council is to advise the Secretary of Commerce on matters relating to the competitiveness of the U.S. manufacturing sector and to provide a forum for regular communication between Government and the manufacturing sector.

ADDRESSES: Please submit application information to J. Marc Chittum, Office of Advisory Committees, Manufacturing Council Executive Secretariat, U.S. Department of Commerce, Room 4043, 1401 Constitution Avenue, NW., Washington, DC 20230.

DATES: All applications must be received by the Office of Advisory Committees by close of business on June 18, 2010.

FOR FURTHER INFORMATION CONTACT: J. Marc Chittum, Manufacturing Council Executive Secretariat, Room 4043, 1401 Constitution Avenue, NW., Washington, DC 20230, telephone: 202-482-4501, e-mail: marc.chittum@trade.gov.

Please visit the Manufacturing Council Web site at: http://www.manufacturing.gov/council/index.asp?dName=council.

SUPPLEMENTARY INFORMATION: The Office of Advisory Committees is reopening the application period for the Council's current two year charter term to expire April 10, 2012. Although the Department of Commerce has received many applications and is still considering all applications received to date (including any applications received after the prior deadline but before issuance of this notice), the Department is seeking a broader applicant pool more representative of the U.S. manufacturing industry as a whole. By reopening and extending the application period, the Department also hopes to have a broader applicant pool to reflect the full diversity of the U.S. manufacturing industry in terms of industry sectors, geographic locations, demographics, and company size. The criteria and procedures for selecting members contained in the March 16, 2010 notice continue to apply and are republished herein for convenience. Pending applicants remain under consideration and do not need to resubmit their applications. Members are appointed for a two-year term to serve until the Council's charter expires on April 10, 2012. Members will be selected in accordance with applicable Department of Commerce guidelines based on their ability to advise the Secretary of Commerce on matters relating to the U.S. manufacturing sector, to act as a liaison among the stakeholders represented by the membership and to provide a forum for those stakeholders on current and emerging issues in the manufacturing sector. The Council's membership shall reflect the diversity of American manufacturing by representing a balanced cross-section of the U.S. manufacturing industry in terms of industry sectors, geographic locations, demographics, and company size, particularly seeking the representation of small- and medium-sized enterprises. Additional factors which may be considered in the selection of Council members include candidates' proven experience in developing and marketing programs in support of manufacturing industries, job creation in the manufacturing sector, or the candidates' proven abilities to manage manufacturing organizations. Given the duties and objectives of the Council, the Department particularly seeks applicants who are active manufacturing executives (Chief Executive Officer, President, and a comparable level of responsibility) that are leaders within their local manufacturing communities and industries.

Each Council member shall serve as the representative of a U.S. entity in the manufacturing sector. For the purposes of eligibility, a U.S. entity shall be defined as a firm incorporated in the United States (or an unincorporated firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities.

Appointments to the Council will be made by the Secretary of Commerce. Council members will serve at the discretion of the Secretary of Commerce. Council members shall serve in a representative capacity, representing the views and interests of their particular industry sector. Council members are not special government employees.

Council members will receive no compensation for their participation in Council activities. Members participating in Council meetings and events will be responsible for their travel, living and other personal expenses.

Meetings will be held regularly and not less than annually, usually in Washington, DC. Members are required to attend a majority of the Council meetings. The first Council meeting for the new charter term has not yet been set.

To be considered for membership, please provide the following:

1. Name and title of the individual requesting consideration.

2. A sponsor letter from the applicant on organization letterhead or, if the applicant is to represent an entity other than his or her employer, a letter from the entity to be represented, containing a brief statement of why the applicant should be considered for membership on the Council. This sponsor letter should also address the applicant's manufacturing-related experience, including any manufacturing trade policy experience.

3. The applicant's personal résumé.

4. An affirmative statement that the applicant is not required to register as a foreign agent under the Foreign Agents Registration Act of 1938, as amended.

5. An affirmative statement that the applicant is not a federally registered lobbyist, and that the applicant understands that if appointed, the applicant will not be allowed to continue to serve as a Council member if the applicant becomes a federally registered lobbyist.

6. Information regarding the control of the entity to be represented, including the governing structure and stock holdings as appropriate signifying compliance with the criteria set forth above.

7. The entity's size and ownership, product or service line and major markets in which the entity operates.

8. Please include all relevant contact information such as mailing address, fax, e-mail, fixed and mobile phone numbers and support staff information where relevant.

Appointments of members to the Council will be made by the Secretary of Commerce.

Dated: May 27, 2010.
J. Marc Chittum,
Executive Secretary, Manufacturing Council.

[FR Doc. 2010-13255 Filed 6-1-10; 8:45 am]

BILLING CODE 3510-DR-P